DEPARTMENT OF COMMERCE

Foreign-Trade Zones Board

Docket 18-2005

Foreign-Trade Zone 183—Austin, Texas; Application For Subzone, Samsung Austin Semiconductor, LP; (Semiconductor Memory Devices); Austin, Texas

Correction

The Federal Register notice (70 FR 23843-23844, 5/5/2005) describing the application by the Foreign-Trade Zone of Central Texas, Inc., grantee of FTZ 183, requesting special-purpose subzone status with export-only manufacturing authority (semiconductor memory devices) for the facilities of Samsung Austin Semiconductor, LP, located in Austin, Texas, is corrected as follows:

In Paragraph 2, the description of Site # 3 should read “Three Way Inc. facilities (1.9 acres; 50,000 sq. ft.) located at 8410A Tuscany Way Building in Austin.”

Dated: May 5, 2005.
Dennis Puccinelli,
Executive Secretary.

[FR Doc. 05-9413 Filed 5-10-05; 8:45 am]

BILLING CODE 3510-DS-S